DEPARTMENT OF JUSTICE

Notice of Lodging of Proposed Consent Decree Under the Clean Air Act

On January 6, 2025, the Department of Justice lodged a proposed Consent Decree with the United States District Court for the Southern District of Indiana in the lawsuit entitled United States v. Meyer Distributing, Inc., Civil Action No. 3:25-cv-4.

The proposed Consent Decree would resolve Meyer's liability alleged in the concurrently filed Complaint for violations of section 203(a)(3) of the Clean Air Act, 42 U.S.C. 7522(a)(3), arising from Meyer's sale and offers to sell devices that bypass, defeat, or render inoperative emission controls installed on motor vehicles or motor vehicle engines in violation of the Clean Air Act, 42 U.S.C. 7522(a). The Complaint alleges that Meyer sold or offered to sell over 600 types of devices within four distinct categories from January 1, 2018 through September 16, 2020. The proposed Consent Decree requires Meyer to pay a civil penalty of $7.4 million, comply with the Clean Air Act going forward, complete a series of compliance measures to prevent future violations, and complete a mitigation project to offset some of the excess emissions caused by its violations in the region with the highest number of violative sales.

The publication of this notice opens a period for public comment on the proposed Consent Decree. Comments should be addressed to the Assistant Attorney General, Environment and Natural Resources Division, and should refer to United States v. Meyer Distributing, Inc., D.J. Ref. No. 90-5-2-1-12694. All comments must be submitted no later than thirty (30) days after the publication date of this notice.

Comments may be submitted either by email or by mail:

To submit comments: | Send them to:
By email | pubcomment-ees.enrd@usdoj.gov.
By mail | Assistant Attorney General, U.S. DOJ-ENRD, P.O. Box 7611, Washington, DC 20044-7611.

Any comments submitted in writing may be filed by the United States in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Laura Thoms,
Assistant Section Chief, Environmental Enforcement Section, Environment and Natural Resources Division.

[FR Doc. 2025-00477 Filed 1-10-25; 8:45 am]

BILLING CODE 4410-15-P